DEPARTMENT OF COMMERCE

Bureau of Industry and Security

Action Affecting Export Privileges; Mohammad Fazeli

In the Matter of: Mohammad Fazeli, 545 S. Atlantic Blvd. #C, Los Angeles, CA 90022.

Order

On September 12, 2007, I entered an Order ¹ denying Mohammad Fazeli (“Fazeli”) all U.S. export privileges until August 7, 2012, pursuant to Section 11(h) of the Export Administration Act ² and Section 766.25 of the Export Administration Regulations,³ and based on a criminal conviction of violating the International Emergency Economic Powers Act (50 U.S.C. 1701-1705 (2000)) (“IEEPA”).

¹ 72 Fed. Reg. 54427, Tuesday, September 25, 2007.

² 50 U.S.C. app. 2401-2420. Since August 21, 2001, the Act has been in lapse and the President, through Executive Order 13222 of August 17, 2001 (3 CFR 2001 Comp. 783 (2002)), as extended by the August 15, 2007 (72 Fed. Reg. 46137, Aug. 16, 2007), has continued the Regulations in effect under the International Emergency Economic Powers Act (50 U.S.C. 1701-1706 (2000)) (“IEEPA”).

³ The Regulations are currently codified in the Code of Federal Regulations at 15 CFR Parts 730-774 (2007).

Whereas, the September 12, 2007 Order identified Fazeli's addresses as “1439 Saltair Fazeli Ave., Los Angeles, CA 90025”, and “112 West 9th Street, Suite 1115, Los Angeles, CA 90015”;

Whereas, the Office of Export Enforcement, Bureau of Industry and Security, U.S. Department of Commerce (“Department”), has confirmed that these two addresses are no longer correct, and that Fazeli's current address is “545 S. Atlantic Blvd. #C, Los Angeles, CA 90022”; and

Whereas, as a result of the information the Department obtained regarding Fazeli's current address, the Department has requested that an order be issued amending the September 12, 2007 Order to reflect that new address for Fazeli;

Accordingly, It is hereby ordered that the September 12, 2007 Order denying all U.S. export privileges to Mohammad Fazeli is amended by deleting the addresses “1439 Saltair Fazeli Ave., Los Angeles, CA 90025”, and “112 West 9th Street, Suite 1115, Los Angeles, CA 90015”, and by adding the address “545 S. Atlantic Blvd. #C, Los Angeles, CA 90022”. In all other aspects, the September 12, 2007 Order remains in full force and effect.

This Order, which is effective immediately, shall be published in the Federal Register.

Dated: February 12, 2008.
Eileen M. Albanese,
Director, Office of Exporter Services.

[FR Doc. 08-826 Filed 2-22-08; 8:45 am]

BILLING CODE 3510-DT-M